FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
003628F | South American Freight International, Inc., 9000 W. Flagler Street, Unit 5, Miami, FL 33174 | May 7, 2011.
020513N | Oriental Camden Inc. dba Embarque Camden, 2011 River Avenue, Camden, NJ 08105 | April 14, 2011.
022074N | Stream Links Express, Inc. dba E-Freight Solutions, 16328 Avalon Road, Gardena, GA 90248 | May 6, 2011.

Sandra L. Kusumoto,
Director, Bureau of Certification and Licensing.

[FR Doc. 2011-14813 Filed 6-14-11; 8:45 am]

BILLING CODE 6730-01-P